DEPARTMENT OF HEALTH AND HUMAN SERVICES

State Partnership Grant Program to Improve Minority Health

AGENCY: Department of Health and Human Services, Office of the Secretary, Office of Public Health and Science, Office of Minority Health.

ACTION: Notice.

Announcement Type: Competitive Initial Announcement of Availability of Funds.

Catalog of Federal Domestic Assistance Number: State Partnership Grant Program to Improve Minority Health—93.296.

DATES: To receive consideration, applications must be received by the Office of Grants Management, Office of Public Health and Science (OPHS), Department of Health and Human Services (DHHS) c/o WilDon Solutions, Office of Grants Management Operations Center, Attention Office of Minority Health State Partnership Grant Program to Improve Minority Health, no later than 5 p.m. Eastern Time on July 11, 2007. The application due date requirement in this announcement supersedes the instructions in the OPHS-1 form.

ADDRESSES: Application kits may be obtained electronically by accessing Grants.gov at http://www.grants.gov or GrantSolutions at http://www.GrantSolutions.gov. To obtain a hard copy of the application kit, contact WilDon Solutions at 1-888-203-6161. Applicants may fax a written request to WilDon Solutions at (703) 351-1138 or email the request to OPHS grantinfo@teamwildon.com. Applications must be prepared using Form OPHS-1 “Grant Application,” which is included in the application kit.

FOR FURTHER INFORMATION CONTACT: WilDon Solutions, Office of Grants Management Operations Center, 1515 Wilson Blvd., Third Floor Suite 310, Arlington, VA 22209 at 1-888-203-6161, email OPHSgrantinfo@teamwildon.com, or fax 703-351-1138.

SUMMARY: This announcement is made by the United States Department of Health and Human Services (HHS or Department), Office of Minority Health (OMH) located within the Office of Public Health and Science (OPHS), and working in a “One Department” approach collaboratively with participating HHS agencies and programs (entities). OMH is authorized to conduct the State Partnership Grant Program to Improve Minority Health under 42 U.S.C. 300u-6, section 1707 of the Public Health Service Act, as amended. The mission of the OMH is to improve the health of racial and ethnic minority populations through the development of policies and programs that address disparities and gaps. OMH serves as the focal point within the HHS for leadership, policy development and coordination, service demonstrations, information exchange, coalition and partnership building, and related efforts to address the health of racial and ethnic minorities. OMH activities are implemented in an effort to address Healthy People 2010, a comprehensive set of disease prevention and health promotion objectives for the Nation to achieve over the first decade of the 21st century (www.healthypeople.gov). This funding announcement is also made in support of the OMH National Partnership for Action initiative, an outgrowth of OMH's 2006 National Leadership Summit for Eliminating Racial and Ethnic Disparities in Health. The mission of the National Partnership for Action (NPA) is to work with individuals and organizations across the country to create a Nation free of health disparities, with quality health outcomes for all by achieving the following five objectives: Increasing awareness of health disparities; strengthening leadership at all levels for addressing health disparities; enhancing patient-provider communication; improving cultural and linguistic competency in delivering health services; and improving coordination and utilization of research and outcome evaluations.

OMH conducted a study to assess the minority health infrastructure within selected states and territories, and to examine their capacity to address racial and ethnic health disparities in their jurisdictions. A finding of the Assessment of State Minority Health Infrastructure and Capacity to Address Issues of Health Disparities (final report—September 2000) was that, despite many challenges, state and/or territorial offices of minority health are an organized and visible presence at the state policymaking level and provide opportunities for shaping and creating initiatives that could affect the health status of minority populations and serve as pivotal points for federal, state, and local efforts to improve the health status of minority populations. In addition, these offices serve an important information dissemination function—providing information on minority health issues to policymakers, health professionals, community-based organizations, and the general public. Based, in part, on the results of this study and activities supported under the initial state partnership initiative, the Department announces the availability of FY 2007 funding for the State Partnership Grant Program to Improve Minority Health to continue HHS’ efforts to improve the health and well being of racial and ethnic minorities. This program is intended to ascertain the effectiveness of state office of minority health-led interventions, including systems change, in addressing the elimination of health disparities among racial and ethnic minority populations.

Although the overall health of the nation has improved, racial and ethnic minority groups continue to experience disparities in health care and are disproportionately affected by chronic disease and health conditions.¹ Eliminating the disproportionate health care disparities is an HHS priority, and the second goal of Healthy People 2010, a systematic approach to health improvement on a national level.

¹Health, United States, 2006, Natinal Center for Health Statistics (NCHS), Hyattsville, MD, November 2006.

The risk of many diseases and health conditions are reduced through preventative actions. A culture of wellness diminishes debilitating and costly health problems. Individual health care is built on a foundation of responsibility for personal wellness, which includes participating in regular physical activity, eating a healthful diet, taking advantage of medical screenings, and making healthy choices to avoid risky behaviors. As cited in the National Healthcare Disparities Report, disparities related to race, ethnicity, and socioeconomic status still pervade the American health care system.² The report also indicates that prevention and elimination of health care disparities for the Nation will result from coordinated actions at Federal, State, and local levels to extend the benefits of regional and community successes nationwide.

²National Healthcare Disparities Report, U.S. Department of Health and Human Services, Agency for Health Care Research and Quality (AHRQ), Rockville, MD, December 2006.

SUPPLEMENTARY INFORMATION:

Table of Contents

Section I. Funding Opportunity Description

1. Purpose

2. OMH Expectations

3. Applicant Project Results

4. Project Requirements

Section II. Award Information

Section III. Eligibility Information

1. Eligible Applicants

2. Cost Sharing or Matching

3. Other

Section IV. Application and Submission Information

1. Address to Request Application Package

2. Content and Form of Application Submission

3. Submission Dates and Times

4. Intergovernmental Review

5. Funding Restrictions

Section V. Application Review Information

1. Criteria

2. Review and Selection Process

3. Anticipated Award Date

Section VI. Award Administration Information

1. Award Notices

2. Administrative and National Policy Requirements

3. Reporting Requirements

Section VII. Agency Contacts

Section VIII. Other Information

1. Background Information

2. Healthy People 2010

3. Definitions

Section I. Funding Opportunity Description

Authority: The program is authorized under 42 U.S.C. 300u-6, section 1707 of the Public Health Service Act, as amended.

1. Purpose: The State Partnership Grant Program to Improve Minority Health (hereinafter referred to as State Partnership Program) seeks to facilitate the improvement of minority health and elimination of health disparities by addressing data needs, partnership development, systems development, health areas (e.g., asthma, CVD/heart disease and stroke, adult immunization, infant mortality, mental health, and obesity/overweight), and/or workforce diversity.

2. OMH Expectations: It is intended that this federal OMH/OPHS State Partnership Program will result in:

• Improved state and territory-wide planning, coordination, collaboration, and linkages among public and private entities that specifically address minority health and health disparities;

• Improved coordination and collaboration among state and territorial public health offices that benefit minority health and contribute to eliminating health disparities;

• Dedicated state and territorial leadership and staffing to: support planning and coordination; promote and implement evidence-based approaches and programs to address priority minority health problem(s); monitor and evaluate state and territorial efforts; and disseminate information focused on improving minority health and eliminating health disparities;

• Increased state and territory-wide efforts to improve minority health and eliminate health disparities through the support of community programs;

• Establishment or enhancement of multicultural partnerships to build efforts within communities of color to collaboratively address health issues impacting minority communities; and

• Improved diversity in the healthcare workforce.

3. Applicant Project Results: Applicants must identify anticipated project results that are consistent with the overall purpose of the State Partnership Program and OMH expectations. Project results should fall within the following general categories, which relate to the NPA objectives relevant to this program:

• Increasing awareness of health disparities.

• Strengthening leadership at all levels for addressing health disparities.

• Improving coordination and utilization of research and outcome evaluations.

4. Project Requirements: Each applicant under the State Partnership Program must propose to:

• Implement a project that:

(1) Focuses on improving state and territory-wide planning, coordination, collaboration, and linkages among public and private entities that specifically address minority health and health disparities; and

(2) Addresses at least one other activity from the identified OMH expectations list (see Section 2 above).

Section II. Award Information

Estimated Funds Available for Competition: $900,000. (Grant awards are subjected to the availability of funds.)

Anticipated Number of Awards: 7.

Range of Awards: $75,000 to $125,000 per year.

Anticipated Start Date: September 1, 2007.

Period of Performance: 3 Years (September 1, 2007 to August 31, 2010).

Budget Period Length: 12 months.

Type of Award: Grant.

Type of Application Accepted: New.

Section III. Eligibility Information

1. Eligible Applicants

To qualify for funding, an applicant must be a currently established state or territorial office of minority health at the time of application submission for this announcement and not have an existing State Partnership Program grant from OMH. States that do not have a formally recognized office of minority health (established through legislation, executive order, or a directive process) may not apply for these OMH State Partnership Program grants. States that do not have formal offices of minority health are not as likely to have the linkages and infrastructure necessary to foster effective relationships with public/private entities and/or community-based minority-focused organizations necessary to address the health needs of racial and ethnic minorities, as required for this program.

Documentation that verifies official status as an established state or territorial office of minority health must be submitted. Examples of such documentation include: a signed statement from a state/territorial level authorizing official (e.g., Governor or designated official, Commissioner of Health, or designee) verifying official status, including a copy of the Executive Order or statute that established the state or territorial office of minority health, where applicable.

A signed letter of support and commitment for the proposed project from an authorizing state or territorial official (e.g., Commissioner of Health, state health director, or designee) is also required as part of the application.

The established state or territorial office of minority health will:

• Serve as the lead office for the project.

• Be responsible for grant implementation, management, and evaluation.

2. Cost Sharing or Matching

Matching funds are not required for the State Partnership Program.

3. Other

If funding is requested in an amount greater than the ceiling of the award range, the application will be considered non-responsive and will not be entered into the review process. The application will be returned with notification that it did not meet the submission requirements. Applications that are not complete or do not conform to or address the criteria of this announcement will be considered non-responsive and will not be entered into the review process. The application will be returned with notification that it did not meet the submission requirements.

Established state and/or territorial offices of minority health may submit no more than one application to the State Partnership Program. Eligible states and territories submitting more than one proposal for this grant program will be deemed ineligible. The multiple proposals from the same organization will be returned without comment.

Established state and/or territorial offices of minority health are not eligible to receive funding from more than one OMH grant program to carry out the same project and/or activities.

Section IV. Application and Submission Information

1. Address to Request Application Kit

Application kits for the State Partnership Program may be obtained by accessing Grants.gov at http://www.grants.gov or the GrantSolutions system at http://www.grantsolutions.gov. To obtain a hard copy of the application kit, contact WilDon Solutions at 1-888-203-6161. Applicants may also fax a written request to WilDon Solutions at 703-351-1138 or email the request to OPHSgrantinfo@teamwildon.com. Applications must be prepared using Form OPHS-1, which can be obtained at the Web sites noted above.

2. Content and Form of Application Submission

A. Application and Submission

Applicants must use Grant Application Form OPHS-1 and complete the Face Page/Cover Page (SF 424), Checklist, and Budget Information Forms for Non-Construction Programs (SF 424A). In addition, the application must contain a project narrative. The project narrative (including summary and appendices) is limited to a total of 60 pages.

The narrative description of the project must contain the following, in the order presented:

• Table of Contents.

• Project Summary: Describe key aspects of the Background, Objectives, Program Plan, and Evaluation Plan. The summary is limited to 3 pages.

• Background:

—Statement of Need: Describe and document (with data) demographic information on the minority health and health disparities issues in the state/territory, and the significance or prevalence of the health problem or issues affecting the target minority group(s). Describe the minority group(s), where applicable, targeted by the project (e.g., race/ethnicity, age gender, educational level/income). Provide rationale for the approach.

—Experience: Describe the applicant organization (state/territorial office of minority health), where it is located organizationally, when it was formally established, and past/current efforts that are being undertaken by the organization to address minority health and health disparities. Discuss the applicant organization's experience in managing projects/activities, especially those targeting the population to be served. Include a chart of the organization's structure, showing who reports to whom, and of the proposed project's organizational structure. Describe how senior state health officials will be engaged in this program and/or periodically informed on the activities and outcomes of the program. Describe the background/experience of any proposed linkage organization and how the organization will interface with the state/territorial office of minority health.

• Objectives: State objectives in measurable terms, including baseline data, improvement targets, and time frames for achievement for the three-year project period.

• Program Plan: Clearly describe how the project will be carried out. Describe specific activities and strategies planned to achieve each objective. For each activity, describe how, when, where, by whom, and for whom the activity will be conducted. Describe the role of any proposed linkage organization(s) in the project. Provide a description of proposed program staff, including resumes and job descriptions for key staff, qualifications and responsibilities of each staff member, and percent of time each will commit to the project. Provide a description of duties for any proposed consultants and/or collaborating public health entities. Describe any products to be developed by the project. Provide a time line for each of the three years of the project period.

• Evaluation Plan: Clearly delineate how the project will be evaluated. The evaluation plan must clearly articulate how the project will be evaluated to determine if the intended results have been achieved. The evaluation plan must describe, for all funded activities:

—Specific problem(s) and factors causing or contributing to the problem(s) that will be addressed;

—Intended results (i.e., impacts and outcomes);

—How impacts and outcomes will be measured (i.e., what indicators or measures will be used to monitor and measure progress toward achieving project results);

—Methods for collecting and analyzing data on measures;

—Evaluation methods that will be used to assess impacts and outcomes;

—Evaluation expertise that will be available for this purpose;

—How results are expected to contribute to the objectives of the Program as a whole, and relevant Healthy People 2010 goals and objectives; and

—The potential for replicating the evaluation methods for similar efforts by other state offices of minority health.

It is expected that evaluation activities will be implemented at the beginning of the program in order to capture and document actions contributing to program outcomes. The evaluation plan must be able to produce documented results that demonstrate whether and how the strategies and activities funded under the State Partnership Program made a difference in the improvement of minority health and the elimination of health disparities. The plan must identify the expected results for each objective. The description must include data collection and analysis methods and demographic data to be collected on project participants, where applicable. Discuss plans and describe the vehicle (e.g., manual) that will be used to document the steps which others may follow to replicate the proposed project. Describe plans for disseminating project results.

• Appendices: Include required eligibility documentation and other relevant information in this section.

In addition to the project narrative, the application must contain a detailed budget justification which includes a narrative explanation and indicates the computation of expenditures for each year for which grant support is requested. The budget request must include funds for key project staff to attend an annual OMH grantee meeting. (The budget justification does not count toward the page limitation.)

B. Data Universal Numbering System number (DUNS)

Applicants must have a Dun & Bradstreet (D&B) Data Universal Numbering System number as the universal identifier when applying for Federal grants. The D&B number can be obtained by calling (866) 705-5711 or through the Web site at http://www.dnb.com/us/.

3. Submission Dates and Times

To be considered for review, applications must be received by the Office of Public Health and Science, Office of Grants Management, c/o WilDon Solutions, by 5 p.m. Eastern Time on July 11, 2007. Applications will be considered as meeting the deadline if they are received on or before the deadline date. The application due date requirement in this announcement supersedes the instructions in the OPHS-1 form.

Submission Mechanisms

The Office of Public Health and Science (OPHS) provides multiple mechanisms for the submission of applications, as described in the following sections. Applicants will receive notification via mail from the OPHS Office of Grants Management confirming the receipt of applications submitted using any of these mechanisms. Applications submitted to the OPHS Office of Grants Management after the deadlines described below will not be accepted for review. Applications which do not conform to the requirements of the grant announcement will not be accepted for review and will be returned to the applicant.

While applications are accepted in hard copy, the use of the electronic application submission capabilities provided by the Grants.gov and GrantSolutions.gov systems is encouraged. Applications may only be submitted electronically via the electronic submission mechanisms specified below. Any applications submitted via any other means of electronic communication, including facsimile or electronic mail, will not be accepted for review.

In order to apply for new funding opportunities which are open to the public for competition, you may access the Grants.gov Web site portal. All OPHS funding opportunities and application kits are made available on Grants.gov. If your organization has/had a grantee business relationship with a grant program serviced by the OPHS Office of Grants Management, and you are applying as part of ongoing grantee related activities, please access GrantSolutions.gov.

Electronic grant application submissions must be submitted no later than 5 p.m. Eastern Time on the deadline date specified in the DATES section of the announcement using one of the electronic submission mechanisms specified below. All required hardcopy original signatures and mail-in items must be received by the OPHS Office of Grants Management, c/o WilDon Solutions no later than 5 p.m. Eastern Time on the next business day after the deadline date specified in the DATES section of the announcement.

Applications will not be considered valid until all electronic application components, hardcopy original signatures, and mail-in items are received by the OPHS Office of Grants Management according to the deadlines specified above. Application submissions that do not adhere to the due date requirements will be considered late and will be deemed ineligible.

Applicants are encouraged to initiate electronic applications early in the application development process, and to submit early on the due date or before. This will aid in addressing any problems with submissions prior to the application deadline.

Electronic Submissions via the Grants.gov Web site Portal

The Grants.gov Web site Portal provides organizations with the ability to submit applications for OPHS grant opportunities. Organizations must successfully complete the necessary registration processes in order to submit an application. Information about this system is available on the Grants.gov Web site, http://www.grants.gov.

In addition to electronically submitted materials, applicants may be required to submit hard copy signatures for certain Program related forms, or original materials as required by the announcement. It is imperative that the applicant review both the grant announcement, as well as the application guidance provided within the Grants.gov application package, to determine such requirements. Any required hard copy materials, or documents that require a signature, must be submitted separately via mail to the OPHS Office of Grants Management, c/o WilDon Solutions, and if required, must contain the original signature of an individual authorized to act for the applicant agency and the obligations imposed by the terms and conditions of the grant award. When submitting the required forms, do not send the entire application. Complete hard copy applications submitted after the electronic submission will not be considered for review.

Electronic applications submitted via the Grants.gov Web site Portal must contain all completed online forms required by the application kit, the Program Narrative, Budget Narrative and any appendices or exhibits. All required mail-in items must received by the due date requirements specified above. Mail-In items may only include publications, resumes, or organizational documentation. When submitting the required forms, do not send the entire application. Complete hard copy applications submitted after the electronic submission will not be considered for review.

Upon completion of a successful electronic application submission via the Grants.gov Web site Portal, the applicant will be provided with a confirmation page from Grants.gov indicating the date and time (Eastern Time) of the electronic application submission, as well as the Grants.gov Receipt Number. It is critical that the applicant print and retain this confirmation for their records, as well as a copy of the entire application package.

All applications submitted via the Grants.gov Web site Portal will be validated by Grants.gov. Any applications deemed “Invalid” by the Grants.gov Web site Portal will not be transferred to the GrantSolutions system, and OPHS has no responsibility for any application that is not validated and transferred to OPHS from the Grants.gov Web site Portal. Grants.gov will notify the applicant regarding the application validation status. Once the application is successfully validated by the Grants.gov Web site Portal, applicants should immediately mail all required hard copy materials to the OPHS Office of Grants Management, c/o WilDon Solutions, to be received by the deadlines specified above. It is critical that the applicant clearly identify the Organization name and Grants.gov Application Receipt Number on all hard copy materials.

Once the application is validated by Grants.gov, it will be electronically transferred to the GrantSolutions system for processing. Upon receipt of both the electronic application from the Grants.gov Web site Portal, and the required hardcopy mail-in items, applicants will receive notification via mail from the OPHS Office of Grants Management confirming the receipt of the application submitted using the Grants.gov Web site Portal.

Applicants should contact Grants.gov regarding any questions or concerns regarding the electronic application process conducted through the Grants.gov Web site Portal.

Electronic Submissions via the GrantSolutions System

OPHS is a managing partner of the GrantSolutions.gov system. GrantSolutions is a full life-cycle grants management system managed by the Administration for Children and Families, Department of Health and Human Services (HHS), and is designated by the Office of Management and Budget (OMB) as one of the three Government-wide grants management systems under the Grants Management Line of Business initiative (GMLoB). OPHS uses GrantSolutions for the electronic processing of all grant applications, as well as the electronic management of its entire Grant portfolio.

When submitting applications via the GrantSolutions system, applicants are required to submit a hard copy of the application face page (Standard Form 424) with the original signature of an individual authorized to act for the applicant agency and assume the obligations imposed by the terms and conditions of the grant award. If required, applicants will also need to submit a hard copy of the Standard Form LLL and/or certain Program related forms (e.g., Program Certifications) with the original signature of an individual authorized to act for the applicant agency. When submitting the required forms, do not send the entire application. Complete hard copy applications submitted after the electronic submission will not be considered for review.

Electronic applications submitted via the GrantSolutions system must contain all completed online forms required by the application kit, the Program Narrative, Budget Narrative and any appendices or exhibits. The applicant may identify specific mail-in items to be sent to the Office of Grants Management separate from the electronic submission; however these mail-in items must be entered on the GrantSolutions Application Checklist at the time of electronic submission, and must be received by the due date requirements specified above. Mail-In items may only include publications, resumes, or organizational documentation. When submitting the required forms, do not send the entire application. Complete hard copy applications submitted after the electronic submission will not be considered for review.

Upon completion of a successful electronic application submission, the GrantSolutions system will provide the applicant with a confirmation page indicating the date and time (Eastern Time) of the electronic application submission. This confirmation page will also provide a listing of all items that constitute the final application submission including all electronic application components, required hardcopy original signatures, and mail-in items, as well as the mailing address of the OPHS Office of Grants Management where all required hard copy materials must be submitted.

As items are received by the OPHS Office of Grants Management, the electronic application status will be updated to reflect the receipt of mail-in items. It is recommended that the applicant monitor the status of their application in the GrantSolutions system to ensure that all signatures and mail-in items are received.

Mailed or Hand-Delivered Hard Copy Applications

Applicants who submit applications in hard copy (via mail or hand-delivered) are required to submit an original and two copies of the application. The original application must be signed by an individual authorized to act for the applicant agency or organization and to assume for the organization the obligations imposed by the terms and conditions of the grant award.

Mailed or hand-delivered applications will be considered as meeting the deadline if they are received by the OPHS Office of Grant Management, c/o WilDon Solutions, on or before 5 p.m. Eastern Time on the deadline date specified in the DATES section of the announcement. The application deadline date requirement specified in this announcement supersedes the instructions in the OPHS-1. Applications that do not meet the deadline will be returned to the applicant unread.

4. Intergovernmental Review

The State Partnership Program is subject to the requirements of Executive Order 12372 which allows States the options of setting up a system for reviewing applications from within their States for assistance under certain Federal programs. The application kits available under this notice will contain a list of States which have chosen to set up a review system and will include a State Single Point of Contact (SPOC) in the State for review. The SPOC list is also available on the Internet at the following address: http://www.whitehouse.gov/omb/grants/spoc.html. Applicants should contact their SPOC as early as possible to alert them to the prospective applications and receive any necessary instructions on the State process. The due date for State process recommendations is 60 days after the application deadlines established by the OPHS Grants Management Officer. The OMH does not guarantee that it will accommodate or explain its responses to State process recommendations received after that date. (See “Intergovernmental Review of Federal Programs,” Executive Order 12372, and 45 CFR Part 100 for a description of the review process and requirements.)

5. Funding Restrictions

Budget Request: If funding is requested in an amount greater than the ceiling of the award range, the application will be considered non-responsive and will not be entered into the review process. The application will be returned with notification that it did not meet the submission requirements.

Grant funds may be used to cover costs of:

• Consultants.

• Personnel.

• Equipment.

• Supplies (including screening and outreach supplies).

• Grant-related travel (domestic only), including attendance at an annual OMH grantee meeting.

• Other grant-related costs.

Grant funds may not be used for:

• Building alterations or renovations.

• Construction.

• Fund raising activities.

• Job training.

• Medical care, treatment or therapy.

• Political education and lobbying.

• Research studies involving human subjects.

• Vocational rehabilitation.

• Vehicle purchases.

Guidance for completing the budget can be found in the Program Guidelines, which are included with the complete application kits.

Section V. Application Review Information

1. Criteria

The technical review of the State Partnership Program applications will consider the following four generic factors listed, in descending order of weight.

A. Factor 1: Program Plan (40%)

• Appropriateness and merit of proposed approach and specific activities for each objective.

• Logic and sequencing of the planned approaches as they relate to the statement of need, objectives and program evaluation.

• Soundness of any proposed partnerships (e.g., coalitions), as applicable.

• Applicant's capability to manage and evaluate the project as determined by:

—Qualifications and appropriateness of proposed staff or requirements for “to be hired” staff and consultants.

—Proposed staff level of effort.

—Appropriateness of defined roles including staff reporting channels and that of any proposed consultants or other collaborating department of health entities.

—Clear lines of authority among the proposed staff within and between participating organizations, as applicable.

—Inclusion and/or plan for communicating program activities and outcomes with senior state health officials.

B. Factor 2: Evaluation (25%)

• The degree to which expected results are appropriate for objectives and activities.

• Appropriateness of the proposed data collection (including any demographic data to be collected), analysis and reporting procedures.

• Suitability of process, outcome, and impact measures.

• Clarity of the intent and plans to assess and document progress toward achieving objectives, planned activities, and intended outcomes.

• Potential for the proposed project to contribute toward improving the health status of, and/or reducing barriers to, health care experienced by the targeted minority populations.

• Soundness of the plan to document the project for replication by other state/local and territorial offices of minority health.

• Soundness of the plan to disseminate project results.

C. Factor 3: Objectives (20%)

• Merit of the objectives.

• Relevance to the OMH Program purpose and expectations, and the stated problem to be addressed by the proposed project.

• Degree to which the objectives are stated in measurable terms.

• Attainability of the objectives in the stated time frames.

D. Factor 4: Background (15%)

• Demonstrated knowledge of the stated problem at the state and/or local level, as applicable.

• Significance and prevalence of any identified health problem(s) or health disparities issue(s) in the state/territory.

• Extent to which the applicant demonstrates access to the target population/community, and whether it is well positioned and accepted within the population/community to be served, as applicable.

• Extent and documented outcome of past/current efforts and activities with the target population, as applicable.

• Applicant's ability to manage and evaluate the project as determined by:

○ The applicant organization's experience in managing project/activities involving the target population.

○ The applicant's organizational structure and proposed project organizational structure.

2. Review and Selection Process

Accepted State Partnership Program applications will be reviewed for technical merit in accordance with PHS policies. Applications will be evaluated by an Objective Review Committee (ORC). Committee members are chosen for their expertise in minority health, health disparities, and their understanding of the unique health problems and related issues confronted by the racial and ethnic minority populations in the United States. Funding decisions will be determined by the Deputy Assistant Secretary for Minority Health who will take under consideration the recommendations and ratings of the ORC.

3. Anticipated Award Date

September 1, 2007.

Section VI. Award Administration Information

1. Award Notices

Successful applicants will receive a notification letter from the Deputy Assistant Secretary for Minority Health and a Notice of Grant Award (NGA), signed by the OPHS Grants Management Officer. The NGA shall be the only binding, authorizing document between the recipient and the Office of Minority Health. Unsuccessful applicants will receive notification from OPHS.

2. Administrative and National Policy Requirements

In accepting this award, the grantee stipulates that the award and any activities thereunder are subject to all provisions of 45 CFR parts 74 and 92, currently in effect or implemented during the period of the grant.

The DHHS Appropriations Act requires that, when issuing statements, press releases, requests for proposals, bid solicitations, and other documents describing projects or programs funded in whole or in part with Federal money, all grantees shall clearly state the percentage and dollar amount of the total costs of the program or project which will be financed with Federal money and the percentage and dollar amount of the total costs of the project or program that will be financed by non-governmental sources.

3. Reporting Requirements

A successful applicant under this notice will submit: (1) Semi-annual progress reports; (2) an annual Financial Status Report; and (3) a final progress report and Financial Status Report in the format established by the OMH, in accordance with provisions of the general regulations which apply under “Monitoring and Reporting Program Performance,” 45 CFR part 74.51-74.52, with the exception of State and local governments to which 45 CFR part 92, subpart C reporting requirements apply.

Uniform Data Set: The Uniform Data Set (UDS) is a web-based system used by OMH grantees to electronically report progress data to OMH. It allows OMH to more clearly and systematically link grant activities to OMH-wide goals and objectives, and document programming impacts and results. All OMH grantees are required to report program information via the UDS (http:// www.dsgonline.com/omh/uds). Training will be provided to all new grantees on the use of the UDS system during the annual grantee meeting.

Grantees will be informed of the progress report due dates and means of submission. Instructions and report format will be provided prior to the required due date. The Annual Financial Status Report is due no later than 90 days after the close of each budget period. The final progress report and Financial Status Report are due 90 days after the end of the project period. Instructions and due dates will be provided prior to required submission.

Section VII. Agency Contacts

For application kits, submission of applications, and information on budget and business aspects of the application, please contact: WilDon Solutions, Office of Grants Management Operations Center, 1515 Wilson Boulevard, Third Floor Suite 310, Arlington, VA 22209 at 1-888-203-6161, email OPHSgrantinfo@teamwildon.com, or fax 703-351-1138.

For questions related to the State Partnership Program or assistance in preparing a grant proposal, contact Ms. Sonsiere Cobb-Souza, Acting Director, Division of Program Operations, Office of Minority Health, Tower Building, Suite 600, 1101 Wootton Parkway, Rockville, MD 20852. Ms. Cobb-Souza can be reached by telephone at (240) 453-8444; or by e-mail at sonsiere.cobb-souza@hhs.gov.

For additional technical assistance, contact the OMH Regional Minority Health Consultant for your region listed in your grant application kit.

For health-related information, call the OMH Resource Center (OMHRC) at 1-800-444-6472.

Section VIII. Other Information

1. Background Information

Many aspects of health in the U.S. have improved; however, significant racial and ethnic disparities remain. The prevalence of overweight in 2003-04 was significantly higher among Hispanic and Black children than white children, and approximately 45 percent of black and 37 percent of Hispanic adults were obese compared to 30 percent of whites.³ In 2005, 18.1 percent of Native American/Alaska Natives reported frequent mental distress (14 or more mentally unhealthy days) compared to 9.6 percent of whites.⁴ Higher percentages of Blacks (11.8) and Hispanics (10.2) also reported frequent mental distress than whites. American Indians/Alaska Natives also had the highest prevalence of asthma in 2002, when 11.6 percent of that population reported having asthma compared to 7.6 percent of whites.⁵ Heart disease is the leading cause of death for men and women in the U.S.; the 2002 age-adjusted death rates for diseases of the heart were 30 percent higher among Blacks than whites. The mortality rates for infants in Black (13.6), American Indian/Alaska Native (8.7), and Puerto Rican (8.2) mothers all exceeded the rate for infants of white mothers (5.7) in 2003. Annual influenza vaccination can lessen the risk of hospitalization and death among persons 65 years of age and over and also prevent influenza-related complications for persons 18-64 years of age with medical conditions. Influenza vaccination coverage among adults 50-64 years of age was about 30 percent lower for non-Hispanic Blacks and Hispanic persons than non-Hispanic white persons. Similarly, influenza vaccination rate among adults 65 years of age and over were about 30 percent lower for non-Hispanic Blacks and Hispanic persons than for non-Hispanic whites.⁶

³ 2004 Fact Sheet—Obesity Still a Major Problem, New Data Show, NCHS, Hyattsville, MD, 2006.

⁴ Health Related Quality of Life Survey, CDC, National Center for Chronic Disease Prevention and Health Promotion, 2006.

⁵ Asthma Prevalence and Control Characteristics by Race/Ethnicity—United States, 2002, MMWR Weekly, CDC, Fedruary 27, 2004.

⁶ Health, United States, National Center for Health Statistics (NCHS), Hyattsville, MD, November 2006.

Health care workforce diversity is considered to be important in health care research, education, administration, and policy to provide both role models and to shape a health care system that meets the needs of all individuals. Diversity not only increases the opportunities for race- and language-concordant physician visits but also has the potential to improve cultural competence at the system, organizational, and provider levels through appropriate program design and policies, organizational commitment to culturally competent care, and cross-cultural education of colleagues. Research has shown that Blacks and Hispanics often see care from physicians of their own race or ethnicity because of personal preference and language, not just because of geographic convenience. Racial and ethnic concordance leads to increases in participatory visits, patient satisfaction, and reports of receipt of preventive care. It is also noted that minority physicians are more likely than their white colleagues to practice in underserved minority communities.⁷

⁷ National Healthcare Disparities Report, U.S. Department of Health and Human Services, Agency for Health Care Research and Quality (AHRQ), Rockville, MD, December 2006.

2. Healthy People 2010

The Public Health Service (PHS) is committed to achieving the health promotion and disease prevention objectives of Healthy People 2010, a PHS-led national activity announced in January 2000 to eliminate health disparities and improve years and quality of life. More information may be found on the Healthy People 2010 web site: http://www.healthypeople.gov and copies of the document may be downloaded. Copies of the Healthy People 2010: Volumes I and II can be purchased by calling (202) 512-1800 (cost $70.00 for printed version; $20.00 for CD-ROM). Another reference is the Healthy People 2010 Final Review—2001.

For one free copy of the Healthy People 2010, contact: The National Center for Health Statistics, Division of Data Services, 3311 Toledo Road, Hyattsville, MD 20782, or by telephone at (301) 458-4636. Ask for HHS Publication No. (PHS) 99-1256. This document may also be downloaded from: http://www.healthypeople.gov.

3. Definitions

For purposes of this announcement, the following definitions apply:

Minority Populations—American Indian or Alaska Native; Asian; Black or African American; Hispanic or Latino; and Native Hawaiian or Other Pacific Islander (42 U.S.C. 300u-6, section 1707 of the Public Health Service Act, as amended.)

Multicultural Partnerships—Multicultural, multi-racial, and multi-ethnic entities comprising organizations and individuals that have come together for a common purpose and that function independently on behalf of the partnership's members to address health disparities within communities of color.

State and Territorial Office of Minority Health—An entity formally established by Executive Order, statute, or a state health officer to improve the health of racial and ethnic populations.

Systems Change—An effort to ensure that the resources and infrastructure necessary are available and accessible to address minority health and health disparities as well as the public health and health care needs of the American population in general. Structural and functional components of the system must also be present—components such as information, data, and evaluation capabilities; trained, motivated, and culturally/linguistically appropriate staff; and facilities, equipment, and technologies appropriate for the needs of public health/health care professionals and the people they serve.

Dated: June 5, 2007.
Garth N. Graham,
Deputy Assistant Secretary for Minority Health.

[FR Doc. 07-2893 Filed 6-8-07; 8:45 am]

BILLING CODE 4150-29-P